DEPARTMENT OF HOMELAND SECURITY

U.S. Citizenship and Immigration Services

[CIS No. 2390-06]

RIN 1615-ZA36

Extension of the Designation of Temporary Protected Status for Nicaragua; Automatic Extension of Employment Authorization Documentation for Nicaragua TPS Beneficiaries; Correction

AGENCY: U.S. Citizenship and Immigration Services, Department of Homeland Security.

ACTION: Notice of correction.

SUMMARY: U.S. Citizenship and Immigration Services (USCIS) is correcting a notice that was published in the Federal Register on May 19, 2006 (71 FR 29166) which intended to correct a notice that was published in the Federal Register on March 31, 2006 (71 FR 16333) announcing the extension of the Temporary Protected Status (TPS) designation for Nicaragua.

The USCIS published a notice in the Federal Register on May 19, 2006 (71 FR 29166) that corrected the end date of the 60-day re-registration period. The correction notice published on May 19, 2006 inadvertently identified the end date for re-registration as June 30, 2006. The correct end date for the re-registration period is June 1, 2006. This notice corrects the end date to be June 1, 2006.

DATES: This correction is effective May 24, 2006.

FOR FURTHER INFORMATION CONTACT: Sean Robinson, Service Center Operations, U.S. Citizenship and Immigration Services, Department of Homeland Security, 20 Massachusetts Avenue, NW., 2nd floor, Washington, DC 20529, telephone (202) 272-8350.

SUPPLEMENTARY INFORMATION:

Need for Correction

As published in the Federal Register on (71 FR 29166), the correction document contains an error that is in need of correction.

Correction of Publication

The document that was published on March 31, 2006 (71 FR 16333) that was the subject of FR Doc. E6-4686, was corrected by the publication of a document published on May 19, 2006 (71 FR 29166) that was the subject of FR Doc. E6-7686. Accordingly, this notice further corrects the document that was published on May 19, 2006 as follows:

1. On page 16333, in the third column, in the sixth line under “Effective Dates' date “June 30, 2007” is corrected to read: “June 1, 2006”.

Dated: May 19, 2006.
Richard A. Sloan,
Director, Regulatory Management Division, U.S. Citizenship and Immigration Services.

[FR Doc. 06-4842 Filed 5-19-06; 5:00 pm]

BILLING CODE 4410-10-P